DEPARTMENT OF ENERGY

Federal Energy Regulatory Commission

[Docket No. CP05-54-000]

Wyoming Interstate Company, Ltd.; Notice of Availability of the Final Environmental Impact Statement for the Proposed Piceance Basin Expansion Project

August 12, 2005.

The environmental staff of the Federal Energy Regulatory Commission (FERC or Commission) has prepared a final Environmental Impact Statement (EIS) on the interstate natural gas pipeline transmission facilities proposed by Wyoming Interstate Company, Ltd. (WIC) in the above-referenced docket.

The final EIS was prepared to satisfy the requirements of the National Environmental Policy Act. Its purpose is to inform the Commission, the public, and other permitting agencies about the potential adverse and beneficial environmental impacts associated with the proposed Piceance Basin Expansion Project (Piceance Project) and its alternatives, and to recommend practical, reasonable, and appropriate mitigation measures which would avoid or reduce any significant adverse impacts to the maximum extent practicable and, where feasible, to less than significant levels. The final EIS concludes that the proposed project, with appropriate mitigating measures as recommended, would have limited adverse environmental impact.

The Piceance Project involves the construction and operation of a new interstate natural gas pipeline system that would extend between the existing Colorado Interstate Gas Company (CIG) Greasewood Compressor Station in Rio Blanco County, Colorado, and the existing CIG Wamsutter Compressor Station in Sweetwater County, Wyoming.¹ The final EIS assesses the potential environmental effects of the construction and operation of the following facilities in Colorado and Wyoming:

¹ Both WIC and CIG are affiliates owned by El Paso Corporation.

• About 141.8 miles of 24-inch-diameter new pipeline with 89.9 miles located in Colorado (Rio Blanco and Moffat Counties) and 51.9 miles located in Wyoming (Sweetwater County);

• Additional compression to be installed at the existing CIG Greasewood Compressor Station in Colorado;

• Four meter stations at interconnections with other pipeline systems (two associated with the CIG Greasewood Compressor Station, two at the CIG Wamsutter Compressor Station);

• Three pigging facilities (one associated with each compressor station and a new facility at milepost 54.0 near County Road 4 in Moffat County, Colorado);

• Nine mainline valves (one valve at each of the two existing compressor stations and seven valves along the pipeline ROW); and

• Other associated facilities, such as access roads and communication towers.

The proposed project would be capable of transporting up to 350,000 dekatherms of natural gas per day (Dthd) from the CIG Greasewood Compressor Station to interconnections at Wamsutter, Wyoming with the CIG and WIC interstate transmission pipeline systems that serve markets east and west of Wamsutter.

The final EIS has been placed in the public files of the FERC and is available for public inspection at: Federal Energy Regulatory Commission, Public Reference Room, 888 First Street, NE., Room 2A, Washington, DC 20426, (202) 502-8371.

A limited number of copies are available from the FERC's Public Reference Room identified above. In addition, copies of the final EIS have been mailed to Federal, State, and local agencies; public interest groups; individuals and affected landowners; libraries; newspapers; and parties to this proceeding.

In accordance with the Council on Environmental Quality's (CEQ) regulations implementing the National Environmental Policy Act, no agency decision on a proposed action may be made until 30 days after the U.S. Environmental Protection Agency publishes a notice of availability of the final EIS. However, the CEQ regulations provide an exception to this rule when an agency decision is subject to a formal internal appeal process which allows other agencies or the public to make their views known. In such cases, the agency decision may be made at the same time the notice of the final EIS is published, allowing both periods to run concurrently. The Commission decision for this proposed action is subject to a 30-day rehearing period.

Additional information about the proposed project is available from the Commission's Office of External Affairs, at 1-866-208-FERC or on the FERC Internet Web site (http://www.ferc.gov) using the “eLibrary” link. Click on the eLibrary link, click on “General Search” and enter the docket number excluding the last three digits (CP05-54) in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

Magalie R. Salas,
Secretary.

[FR Doc. E5-4518 Filed 8-18-05; 8:45 am]

BILLING CODE 6717-01-P